DEPARTMENT OF HOMELAND SECURITY

Coast Guard

33 CFR Part 117

[CGD08-03-025]

Drawbridge Operation Regulations; Illinois Waterway, Beardstown, IL

AGENCY: Coast Guard, DHS.

ACTION: Notice of temporary deviation from regulations.

SUMMARY: The Commander, Eighth Coast Guard District has issued a temporary deviation from the regulation governing the operation of the Beardstown Railroad Drawbridge, across the Illinois Waterway, mile 88.8 at Beardstown, Illinois. This deviation allows the drawbridge to remain closed to navigation for three separate 10½-hour increments from June 9, 2003 until June 11, 2003. The deviation is necessary to facilitate maintenance work on the bridge that is essential to the continued safe operation of the drawbridge.

DATES: This temporary deviation is effective from 7 a.m. on June 9, 2003, until 5:30 p.m. June 11, 2003.

ADDRESSES: Materials referred to in this document are available for inspection or copying at the office of the Eighth Coast Guard District, Bridge Administration Branch, Commander (obr), Eighth Coast Guard District, 1222 Spruce Street, St. Louis, MO 63103-2832, between 8 a.m. and 4 p.m., Monday through Friday, except Federal holidays. The Bridge Administration Branch maintains the public docket for this temporary deviation.

FOR FUTHER INFORMATION CONTACT: Roger K. Wiebusch, Bridge Administrator, Commander (obr), Eighth Coast Guard District, 1222 Spruce Street, St. Louis, MO 63103-2832, (314) 539-3900, extension 2378.

SUPPLEMENTARY INFORMATION: The Burlington Northern Santa Fe Railway requested a temporary deviation on May 9, 2003 to allow time to conduct preventative maintenance to the Beardstown Railroad Drawbridge, across the Illinois Waterway, mile 88.8 at Beardstown, Illinois. The Beardstown Railroad Drawbridge currently operates in accordance with 33 CFR 117.393(a) which requires that the drawbridge be maintained in the open-to-navigation position and closed only for the passage of rail traffic. In order to replace the up and down haul cables, the bridge must be kept in the closed to navigation position. This deviation allows the bridge to remain closed to navigation for three separate 10½-hour intervals from 7 a.m. until 5:30 p.m., June 9, 2003, from 7 a.m. until 5:30 p.m., June 10, 2003, and from 7 a.m. until 5:30 p.m., June 11, 2003. Vessels not exceeding the vertical clearance of the drawbridge may pass under the drawbridge during repairs. There are no alternate routes for vessels transiting through mile 88.8 on the Illinois Waterway. The drawbridge will be incapable of opening for emergencies during the 10½-hour repair periods.

The Beardstown Railroad drawbridge provides a vertical clearance of 19.6 feet above normal pool in the closed to navigation position. Navigation on the waterway consists primarily of commercial tows and recreational watercraft. This deviation has been coordinated with waterway users. No objections were received.

In accordance with 33 CFR 117.35(c), this work will be performed with all due speed in order to return the bridge to normal operation as soon as possible. This deviation from the operating regulations is authorized under 33 CFR 117.35.

Dated: June 3, 2003.
Roger K. Wiebusch,
Bridge Administrator.

[FR Doc. 03-14800 Filed 6-10-03; 8:45 am]

BILLING CODE 4910-15-P